DEPARTMENT OF TRANSPORTATION

Maritime Administration

U.S. Merchant Marine Academy Board of Visitors Meeting

AGENCY: Maritime Administration, Department of Transportation.

ACTION: Meeting notice.

SUMMARY: The U.S. Department of Transportation, Maritime Administration (MARAD) announces that the following U.S. Merchant Marine Academy (Academy) Board of Visitors (BOV) meeting will take place:

1. Date: April 23, 2018.

2. Time: 3:00-6:00 p.m.

3. Location: U.S. Capitol Visitors Center, Room SVC 201-00.

4. Purpose of the Meeting: The purpose of this meeting is to

(a) Discuss and vote on the BOV bylaws.

(b) Provide a briefing to the members on the state of the Academy, the status of the incoming class of 2022 and Sea Year.

(c) Provide an update on the status of the 5-year Strategic Plan development.

(d) Discuss the maritime workforce and how USMMA supports the maritime industry.

(e) Update the Critical Infrastructure Plan and infrastructure and improvements.

(f) Highlight the ongoing planning and events to celebrate the Academy's 75th Anniversary.

5. Public Access to the Meeting: This meeting is open to the public. Seating is on a first-come basis. Members of the public wishing to attend the meeting will need to show photo identification in order to gain access to the meeting location.

FOR FURTHER INFORMATION CONTACT: The BOV's Designated Federal Officer and Point of Contact Brian Blower; 202-366-2765; Brian.Blower@dot.gov.

SUPPLEMENTARY INFORMATION: Any member of the public is permitted to file a written statement with the Academy BOV. Written statements should be sent to the Designated Federal Officer at: Brian Blower; 1200 New Jersey Ave. SE, W28-314, Washington, DC 20590 or via email at Brian.Blower@Dot.gov. (Please contact the Designated Federal Officer for information on submitting comments via fax.) Written statements must be received no later than three working days prior to the meeting in order to provide time for member consideration. Only written statements will be considered by the BOV, no member of the public will be allowed to present questions from the floor or speak to any issue under consideration by the BOV unless requested to do so by a member of the Board.

(Authority: 46 U.S.C. 51312; 5 U.S.C. app. 552b; 41 CFR parts 102-3.140 through 102-3.165)

* * *

By Order of the Maritime Administrator.
Dated: April 11, 2018.
T. Mitchell Hudson, Jr.,
Secretary, Maritime Administration.

[FR Doc. 2018-07845 Filed 4-13-18; 8:45 am]

BILLING CODE 4910-81-P